DEPARTMENT OF ENERGY

Federal Energy Regulatory Commission

Combined Notice of Filings

Take notice that the Commission has received the following Natural Gas Pipeline Rate and Refund Report filings:

Filings Instituting Proceedings

Docket Numbers: CP19-507-000.

Applicants: Transcontinental Gas Pipe Line Company, LLC.

Description: Abbreviated Application for Abandonment of Service of Transcontinental Gas Pipe Line Company, LLC.

Filed Date: 9/4/19.

Accession Number: 20190904-5103.

Comments Due: 5 p.m. ET 9/25/19.

Docket Numbers: CP19-508-000.

Applicants: National Fuel Gas Supply Corporation.

Description: Abbreviated Application for Abandonment of Service of National Fuel Gas Supply Corporation.

Filed Date: 9/4/19.

Accession Number: 20190904-5146.

Comments Due: 5 p.m. ET 9/25/19.

Docket Numbers: RP19-1091-004.

Applicants: American Midstream (Midla), LLC.

Description: Compliance filing compliance to 10010 to be effective 8/1/2019.

Filed Date: 9/6/19.

Accession Number: 20190906-5111.

Comments Due: 5 p.m. ET 9/18/19.

Docket Numbers: RP19-1543-000.

Applicants: ANR Pipeline Company.

Description: § 4(d) Rate Filing: Spot Price Indices to be effective 11/1/2019.

Filed Date: 9/6/19.

Accession Number: 20190906-5001.

Comments Due: 5 p.m. ET 9/18/19.

Docket Numbers: RP19-1544-000.

Applicants: Saavi Energy Solutions, LLC, Sempra Gas & Power Marketing, LLC.

Description: Joint Petition for Temporary Waiver of Commission Policies, Capacity Release Regulations and Policies, et al. of Saavi Energy Solutions, LLC, et al. under RP19-1544.

Filed Date: 9/6/19.

Accession Number: 20190906-5045.

Comments Due: 5 p.m. ET 9/18/19.

Docket Numbers: RP19-1545-000.

Applicants: Transcontinental Gas Pipe Line Company, LLC.

Description: § 4(d) Rate Filing: List of Non-Conforming Service Agreements (Rivervale South, Buford) to be effective 10/7/2019.

Filed Date: 9/6/19.

Accession Number: 20190906-5059.

Comments Due: 5 p.m. ET 9/18/19.

Docket Numbers: RP19-1546-000.

Applicants: Gas Transmission Northwest LLC.

Description: § 4(d) Rate Filing: 36-month ROFR to be effective 10/6/2019.

Filed Date: 9/6/19.

Accession Number: 20190906-5065.

Comments Due: 5 p.m. ET 9/18/19.

Docket Numbers: RP19-1547-000.

Applicants: Transcontinental Gas Pipe Line Company, LLC.

Description: § 4(d) Rate Filing: Crediting of Reservation Charges—WSS-OA, LSS, SS-2 to be effective 11/1/2019.

Filed Date: 9/6/19.

Accession Number: 20190906-5126.

Comments Due: 5 p.m. ET 9/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2019.
Nathaniel J. Davis, Sr.,
Deputy Secretary.

[FR Doc. 2019-19822 Filed 9-12-19; 8:45 am]

BILLING CODE 6717-01-P